DEPARTMENT OF THE INTERIOR

National Park Service

Environmental Impact Statement/General Management Plan; Ross Lake National Recreation Area, North Cascades National Park Complex, Skagit and Whatcom Counties, WA; Notice of Intent To Prepare an Environmental Impact Statement

Summary: In accord with § 102(2)(c) of the National Environmental Policy Act of 1969 (42 U.S.C. 4321, et seq.), the National Park Service is undertaking a conservation planning and environmental impact analysis process for updating the General Management Plan (General Management Plan) for the Ross Lake National Recreation Area, in northwestern Washington. Ross Lake National Recreation Area is administratively managed as part of the North Cascades National Park Service Complex; however, this GMP will specifically address the Ross Lake unit of the part complex. An Environmental Impact Statement (EIS) will be prepared concurrently with the GMP. The GMP is intended to set forth the basic management philosophy for this unit of the National Park System and provide the strategies for addressing issues and achieving identified management objectives for that unit. Thus, the GMP will serve as a blueprint to guide management of natural and cultural resources and visitor use during the next 15-20 years. One or more Development Concept Plans, which guide more detailed, site-specific preservation and development actions, may be included with the GMP.

Consistent with NPS Planning Program Standards, the update GMP will: (1) Describe the Ross Lake National Recreation Area's (Ross Lake NRA) purpose, significance, and primary interpretive themes; (2) identify the fundamental resources and values of Ross Lake NRA, its other important resources and values, and describe the condition of these resources; (3) describe desired conditions for cultural and natural resources and visitor experiences throughout the Ross Lake NRA; (4) develop management zoning to support these desired conditions; (5) develop alternative applications of these management zones to the Ross Lake NRA's landscape (i.e., zoning alternatives); (6) address user capacity; (7) analyze potential boundary modifications; (8) ensure that management recommendations are developed in conclusion with interested stakeholders and the public and adopted by NPS after a thorough analysis of the benefits, potential environmental consequences, and economic costs of alternative courses of action; (9) develop cost estimates implementing each of the alternatives; and (10) identify and prioritize subsequent detailed studies, plans and actions that may be needed to implement the updated GMP.

Scoping Process: A comprehensive scoping outreach effort is planned so as to elicit early public comment regarding issues and concerns, the nature and extent of potential environmental impacts (and as appropriate, mitigation measures), and possible alternatives that should be addressed in the preparing of the Draft EIS and proposed update to the GMP. Through the various scoping outreach activities planned, the NPS welcomes information and suggestions from the public regarding resource protection, visitor use, and land management. This notice formally initiates the public scoping comment phase for the EIS process. All written scoping comments must be postmarked not later than December 30, 2006. All comments should be addressed to: General Management Plan, Ross Lake National Recreation Area, Attn: Bill Paleck, Superintendent, North Cascades National Park Service Complex, 810 State Route 20, Sedro-Woolley, WA 92884-1289. At this time, it is expected that public workshops will be hosted in towns near Ross Lake NRA, and the metropolitan area of Seattle, Washington the week of October 16, 2006, and the week of October 23, 2006. Detailed information regarding these meetings will be posted on the GMP Web site (http://parkplanning.nps.gov/rola). All participants will be given the opportunity to ask questions and provide comments to the planning team. The GMP Web site will provide the most up-to-date information regarding the project, including project description, planning process updates, meeting notices, reports and documents, and useful links associated with the project; direct mailings will also be made periodically.

Please note that our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Supplementary Information: As noted above, Ross Lake NRA is managed as one unit of the North Cascades National Park Complex (North Cascades), which also includes North Cascades National Park (north and south units), and Lake Chelan National Recreation Area (which adjoins the park on the south). North Cascades is located deep in the northernmost reaches of the Cascades Range in Washington State and borders British Columbia, Canada.

Management guidance for Ross Lake NRA was included in the North Cascades GMP (now 18 years old) and has become inadequate to address the policy and operational issues now facing park management for Ross Lake NRA. Since the completion of the North Cascades GMP, many changes have occurred that affect NRA management. Seattle City Light's three dam facilities have been re-licensed by the Federal Energy Regulatory Commission (FERC). The mitigation package approved as part of the relicensing agreement included several large-scale changes and improvements for Ross Lake NRA that were not included or fully envisioned in the 1988 North Cascades GMP. It is timely to update the GMP to address these large scale changes that are occurring in Ross Lake NRA and to address resource protection, visitor use, and management issues surrounding these enhancements.

Additionally, Ross Lake NRA also faces other broad natural and cultural resource protection issues—these include bioregional management strategies for grizzly bear recovery, control of invasive species, local climate change effects, changing lake levels, air quality, archeology, and American Indian traditional uses. Complementary management strategies will be pursued for these resource challenges.

Visitor use within Ross Lake NRA has diversified and significantly increased since the 1988 North Cascades GMP, due in part to the enhanced recreational facilities. Boating on Diablo and Ross Lakes has intensified. Use of Washington State's North Cascades Highway 20 (which bisects approximately 25 miles of Ross Lake NRA) has increased dramatically and is the most popular motorcycle touring route in the region. The GMP update is needed to adequately provide management guidance for visitor use, boats, and motor vehicles within the Ross Lake NRA and address carrying capacity for visitor experience and resource protection.

Following the completion of the 1988 North Cascades GMP, the Stephen Mather Wilderness within the North Cascades National Park Complex was designated by Congress in November 1988. This act brought 93% of the park complex under the provisions of the 1964 Wilderness Act, and 69% of Ross Lake NRA is designated wilderness (4% is designated potential wilderness). The new GMP is needed to adequately update zoning for the management of wilderness lands within Ross Lake NRA, and will ratify the current management contained in the Wilderness Management Plan.

Trans-boundary ecosystem and recreation management is also a significant issue for Ross Lake NRA, which borders British Columbia provincial parks for five miles along its northern border. Hozomeen, at the US-Canada border, is the most developed access point onto Ross Lake. Ross Lake NRA is within a large extended watershed that begins in Canada, continues through the North Cascades and lower river valley, and then drains into the Pacific Ocean. An effort by Skagit Environmental Endowment Commission (SEE), an endowed organization established by international treaty, is underway to manage the upper Skagit watershed more holistically between Canada and the United States. The new GMP will address trans-boundary resource management issues as well as partnership opportunities with U.S. and Canadian entities. In addition, SEE has provided funding to the province of British Columbia to complete a managment plan for its provincial park units adjacent to Ross Lake NRA and within the upper Skagit watershed.

Decision Process: Following the scoping phase and consideration of public concerns and other agency comments, a Draft EIS and proposed GMP will be prepared and released for public review. Availability of the forthcoming Draft EIS for public review and written comment will be formally announced with publication of a Notice of Availability in the Federal Register, as well as through local and regional news media, direct mailings, and via Web site postings. Following due consideration of all agency and public comment, a Final EIS will be prepared; it is anticipated that the final GMP proposal will be available in September 2009. As a delegated EIS, the official responsible for the decision on the proposed GMP is the Regional Director, Pacific West Region, National Park Service. Subsequently, the official responsible for implementation of the approved GMP would be the Superintendent, North Cascades National Park Service Complex.

Dated: September 14, 2006.
Patricia L. Neubacher,
Acting Regional Director, Pacific West Region.

[FR Doc. 06-8949 Filed 10-27-06; 8:45 am]

BILLING CODE 4312-GX-M